ENVIRONMENTAL PROTECTION AGENCY

40 CFR Part 52

[AL-200311; FRL-7444-7]

Approval and Promulgation of Air Quality Implementation Plans; Alabama Update to Materials Incorporated by Reference

Correction

In rule document 03-2172 beginning on page 5221 in the issue of Monday, February 3, 2003 make the following corrections:

§ 52.50 [Corrected]

1. On page 5228, in § 52.50, in the table, in the second column, in the second line, “Area 1” should read “Area”.

2. On the same page, in the same section, in the same table, in the third column, “2/01/00” should read “12/01/00”.

[FR Doc. C3-2172 Filed 2-11-03; 8:45 am]

BILLING CODE 1505-01-D

ENVIRONMENTAL PROTECTION AGENCY

40 CFR Part 81

[ID-02-002; FRL-7422-3]

Approval and Promulgation of Implementation Plans; Idaho; Designation of Areas for Air Quality Planning Purposes; Idaho

Correction

In rule document 03-856 beginning on page 2217 in the issue of Thursday, January 16, 2003, make the following correction:

§ 81.313 [Corrected]

On page 2226, in § 83.313, in the table, in the second column, under the heading “Designation”, under the subheading “Date”, in the sixth entry, “11/20/94” should read, “1/20/94”.

[FR Doc. C3-856 Filed 2-11-03; 8:45 am]

BILLING CODE 1505-01-D